FEDERAL COMMUNICATIONS COMMISSION

47 CFR Part 101

[WT Docket No. 02-146; RM-10288; FCC 03-248]

Allocations and Service Rules for the 71-76 GHz, 81-86 GHz and 92-95 GHz Bands; Loea Communications Corporation Petition for Rulemaking; Correction

AGENCY: Federal Communications Commission.

ACTION: Final rule; correction.

SUMMARY: In a rule published January 23, 2004, the Commission adopted service rules to promote the private sector development and use of the “millimeter wave” spectrum in certain bands pursuant to parts 15 and 101 or our rules. This document contains editorial corrections to the final rules document.

DATES: Effective on March 31, 2004.

FOR FURTHER INFORMATION CONTACT: Jennifer Mock, Broadband Division, Wireless Telecommunications Bureau at (202) 418-1310.

SUPPLEMENTARY INFORMATION: On January 23, 2004 (69 FR 3257), the Federal Register published a final rule in the above captioned proceeding. On page 3266, instruction 14 of the rules amended § 101.63 by revising paragraphs (a) and (b). In revising paragraph (b), the instructions neglected to redesignate then existing paragraphs (b), (c), (d), and (e), as paragraphs (c), (d), (e), and (f), respectively. This document corrects § 101.63. Instruction 16 of the rules amended § 101.107(a) by revising the table. The instruction neglected to reflect revisions to the footnotes of the table that were published in the Federal Register on January 31, 2003 (68 FR 4956). This document corrects footnote 9 published on January 23, 2004 (69 FR 3266) and also renumbers it to read as footnote 8.

Need for Correction

As published, the final regulations contain errors which may prove to be misleading and need to be clarified.

List of Subjects in 47 CFR Part 101

Communications common carriers, Communications equipment, Radio.

For the reasons set forth above, part 101 is corrected as follows:

1. The authority for part 101 continues to read as follows

Authority: 47 U.S.C. 154 and 303.

2. In § 101.63, as amended at 69 FR 3266 (January 23, 2004), paragraphs (c) through (e) are redesignated as paragraph (d) through (f) and new paragraph (c) is added to read as follows:

§ 101.63 Period of construction certification of completion of construction.

* * * * *

(c) Failure to timely begin operation means the authorization cancels automatically.

* * * * *

3. In the table in § 101.107(a), the footnote numbered as “9” is corrected to read as “8” wherever it appears, and the text of the footnote is revised to read as follows:

§ 101.107 Frequency tolerance.

* * * * *

⁸ Equipment authorized to be operated in the 71,000-76,000 MHz, 81,000-86,000 MHz, 92,000-94,000 MHz and 94,100-95,000 MHz bands is exempt from the frequency tolerance requirement noted in the table of paragraph (a) of this section.

* * * * *

Federal Communications Commission.
Marlene H. Dortch,
Secretary.

[FR Doc. 04-7231 Filed 3-30-04; 8:45 am]

BILLING CODE 6712-01-P